DEPARTMENT OF TRANSPORTATION

Federal Motor Carrier Safety Administration

[Docket No. FMCSA-2023-0265]

Agency Information Collection Activities; Revision of an Approved Information Collection: Application for Certificate of Registration for Foreign Motor Carriers and Foreign Motor Private Carriers

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew the ICR titled, “Application for Certificate of Registration for Foreign Motor Carriers and Foreign Motor Private Carriers,” OMB Control No. 2126-0019. Foreign (Mexico-based) for-hire and private motor carriers are required to file an application Form OP-2 if they wish to register to transport property within municipalities in the United States on the U.S.-Mexico international border or within the commercial zones of such municipalities. The Certificate of Registration only permits the holder to operate in the United States within these areas. A holder of a Certificate of Registration who operates a vehicle beyond these areas is subject to applicable penalties and out-of-service orders.

DATES: Comments on this notice must be received on or before April 16, 2024.

ADDRESSES: You may submit comments identified by Docket Number FMCSA-2023-0265 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: 1-202-493-2251.

To avoid duplication, please use only one of these four methods. See the “Public Participation and Request for Comments” portion of the SUPPLEMENTARY INFORMATION section for instructions on submitting comments.

FOR FURTHER INFORMATION CONTACT: Mr. Jeffrey L. Secrist, Office of Registration, Chief, Registration Division, DOT, FMCSA, West Building 6th Floor, 1200 New Jersey Avenue SE, Washington, DC 20590; (202) 385-2367; jeff.secrist@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2023-0265), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2023-0265/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 44 U.S.C. 3506(c)(2)(A), DOT solicits comments from the public to better inform its information collection activities. DOT posts these comments, without edit, including any personal information the commenter provides, to www.regulations.gov, as described in the system of records notice (DOT/ALL-14 FDMS), which can be reviewed at www.dot.gov/privacy.

Background

Title 49 U.S.C. 13902(c) contains basic licensing procedures for registering foreign (Mexico-based) motor carriers to operate across the U.S.-Mexico international border into the United States. The regulations that require foreign (Mexico-based) motor carriers to apply to the FMCSA for a Certificate of Registration to provide interstate transportation in municipalities in the United States on the U.S.-Mexico international border or within the commercial zones of such municipalities as defined in 49 U.S.C. 13902(c)(4)(A) are found at 49 CFR part 368. FMCSA carries out this registration program under authority delegated by the Secretary of Transportation.

Foreign (Mexico-based) motor carriers with existing Certificates of Registration may continue to use Form OP-2 update their registration information with the FMCSA. The form requests information on the foreign motor carrier's name, address, U.S. DOT number, form of business (e.g., corporation, sole proprietorship, partnership), locations where the applicant plans to operate, types of registration requested (e.g., for-hire motor carrier, household goods carrier, motor private carrier), insurance, safety certifications, household goods arbitration certifications, and compliance certifications.

Changes From Previous Estimates

The currently approved version of this ICR estimated the average annual burden to be 47 annual burden hours, with 31 total annual respondents. For this renewal, the estimated average annual burden is 878 hours, and 585 average annual respondents, based on an estimated burden of 1.5 hours per respondent. The estimated annual burden hour increase of 831 is due primarily to the increase in the number of updated OP-2 forms filed from 2020 through 2022. The average number of entities which filed updated OP-2 forms in the three-year period 2020 and 2022 increased by 95 percent compared to the number that registered from 2017 through 2019.

Title: Application for Certificate of Registration for Foreign Motor Carriers and Foreign Motor Private Carriers.

OMB Control Number: 2126-0019.

Type of Request: Renewal of a currently approved ICR.

Respondents: Foreign motor carriers.

Estimated Number of Respondents: 585.

Estimated Time per Response: 1.5 hours.

Expiration Date: October 31, 2024.

Frequency of Response: On occasion.

Estimated Total Annual Burden: 878 hours.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator Office of Research and Registration.

[FR Doc. 2024-03258 Filed 2-15-24; 8:45 am]

BILLING CODE 4910-EX-P